DEPARTMENT OF EDUCATION

National Advisory Committee on Institutional Quality and Integrity (NACIQI) Meeting

AGENCY: National Advisory Committee on Institutional Quality and Integrity, Office of Postsecondary Education, Department of Education.

ACTION: Notice of the February 3-4, 2011, open meeting of the National Advisory Committee on Institutional Quality and Integrity (NACIQI), procedures for submitting third-party written comments, and procedures for making third-party oral comments at the meeting.

SUMMARY: This notice sets forth the schedule and agenda of the upcoming open meeting of the NACIQI. It also informs members of the public how to submit third-party written comments and how to submit third-party oral comment requests. The notice of this meeting is required under section 10(a)(2) of the Federal Advisory Committee Act (FACA) and section 114(d)(1)(B) of the Higher Education Act of 1965, as amended (HEA), and as background, summarizes the functions of the NACIQI.

Meeting Date and Place: The NACIQI meeting will be held on February 3-4, 2011, from 8:30 a.m. to approximately 5:30 p.m., at the Holiday Inn and Suites, Ballrooms A-C, 625 First Street, Alexandria, VA 22314. For further information about the meeting location or for hotel reservations, contact the hotel at 703-548-6300.

Agenda: The agenda for the meeting will include presentations to inform the NACIQI generally regarding the accreditation of institutions of higher education, the certification and eligibility of such institutions for purposes of the Federal student aid programs authorized under Title IV of the HEA, the relationship between the two, and regarding State licensing responsibilities with respect to such institutions.

As background, the current system of accreditation/recognition draws upon a variety of participants, definitions, and processes. Taken together, these elements reflect commonalities and divergences among the concepts of “quality assurance,” “continuous improvement,” and “compliance,” as well as tension between gatekeeping for the institutional eligibility for student aid and accreditation as a broader quality assurance and quality improvement process. There are also disparities between compliance with regulation and accreditation via peer review, as well as varying roles and interests of Federal and State entities, professional/trade/membership organizations, and the public.

The NACIQI will hear from a variety of speakers concerning the above topics, in order to consider the broad question of what is working (and not working) in the current system of recognition, accreditation, and student aid eligibility.

All oral presentations and written materials submitted will inform the NACIQI as it develops a set of recommendations to the Secretary for the reauthorization of the HEA.

NACIQI'S Statutory Authority and Functions: The NACIQI was established under Section 114 of the HEA. It advises the Secretary of Education about:

• The establishment and enforcement of the Criteria for Recognition of accrediting agencies or associations under Subpart 2, Part H, Title IV, of the HEA.

• The recognition of specific accrediting agencies or associations, or a specific State approval agency.

• The preparation and publication of the list of nationally recognized accrediting agencies and associations.

• The eligibility and certification process for institutions of higher education under Title IV, HEA.

• The relationship between: (1) Accreditation of institutions of higher education and the certification and eligibility of those institutions and (2) State licensing responsibilities with respect to those institutions.

• Any other advisory functions relating to accreditation and institutional eligibility that the Secretary may prescribe.

Instructions for Submitting a Third-Party Written Comment for the February 2011 NACIQI Meeting: Submit your written comments by e-mail on or before January 16, 2011, to aslrecordsmanager@ed.gov. Enter the subject line as “Written Comments to NACIQI Regarding Reauthorization of the HEA, concerning [insert specific topic or statutory citation here].” Also, in the body of your written comments, please insert a subject heading above each subject area addressed.

Instructions for Making a Third-Party Oral Comment at the February 2011 NACIQI Meeting: There are two methods the public may use to make a third-party oral comment concerning the reauthorization of the HEA during the February 3-4, 2011, meeting.

First Method: Submit a written request via e-mail in advance of the meeting to make a third-party oral presentation. A total of 30 minutes of the meeting will be allotted for commenters who have submitted an advance request. Depending on the number of requests received, commenters will be selected on a first-come, first-served basis and if selected, each commenter will be provided three to five minutes to speak. Each request must be received on or before January 16, 2011, and must be sent to aslrecordsmanager@ed.gov with the subject line listed as “Request to Provide Oral Comments to NACIQI Regarding Reauthorization of the HEA concerning [insert specific topic or statutory citation here].” Your request (no more than three pages) must include:

1. The name, title, affiliation, mailing address, e-mail address, telephone and facsimile numbers, and Web site (if any) of the person/group requesting to speak; and

2. A brief summary of the principal points to be made during the oral presentation, as well as the statutory citation related to the points to be covered.

Only individuals whose requests are made in accordance with these instructions will become eligible for an opportunity to speak under this method. Please do not send material directly to the NACIQI members.

Second Method: Sign up on February 4, 2011, to make oral comments that day expressing your views regarding reauthorization. The sign-up form will request the name, title, affiliation, mailing address, e-mail address, telephone and facsimile numbers, and Web site (if any). A total of 30 minutes of the meeting will be allotted for commenters who sign up the day of the meeting.

Individuals or groups that sign up on the day of the meeting will be selected on a first-come, first-served basis, based on when the completed sign-up sheet is received and time-stamped. If selected, each commenter will be provided from three to five minutes, depending on the number of requests received. If a person or group requests to make oral comments in advance, they may not also sign-up to make oral comments the day of the meeting. The Chair will confine oral commenters to the topic of reauthorization.

Members of the public will be eligible to make third-party oral comments only in accordance with these instructions. Their comments will become part of the official record and will be considered by the NACIQI in its deliberations.

Access to Records of the Meeting: The Department will post the official report of the meeting on the NACIQI Web site shortly after the meeting. Pursuant to the FACA, the public may also inspect the materials at 1990 K Street, NW., Washington, DC, by e-mailing aslrecordsmanager@ed.gov or by calling (202) 219-7067 to schedule an appointment.

Electronic Access to this Document: You may view this document, as well as all other Department of Education documents published in the Federal Register, in text or Adobe Portable Document Format (PDF), or on the Internet at the following site: http://www.ed.gov/legislation/fedregister. To use PDF, you must have Adobe Acrobat Reader, which is available free at this site. If you have questions about using PDF, call the U.S. Government Printing Office (GPO), toll free, at 1-866-512-1800 or, in the Washington, DC area at (202)512-0000.

Reasonable Accommodations: Individuals who will need accommodations for a disability in order to attend the February 3-4, 2011 meeting (i.e., interpreter services, assistive listening devices, and/or materials in alternative format) should contact Department staff by telephone at (202) 219-7067; or, e-mail at aslrecordsmanager@ed.gov, no later than January 17, 2010. We will attempt to meet requests after this date, but cannot guarantee the availability of the requested accommodation. The meeting site is accessible.

FOR FURTHER INFORMATION CONTACT: Melissa Lewis, Executive Director, NACIQI, U.S. Department of Education, Room 8060, 1990 K Street, NW., Washington, DC 20006, telephone: (202) 219-7009; e-mail: Melissa.Lewis@ed.gov. Individuals who use a telecommunications device for the deaf (TDD) may call the Federal Information Relay Service at 1-800-877-8339, between 8 a.m. and 8 p.m., Eastern Standard Time, Monday through Friday.

Note: The official version of this document is the document published in the Federal Register. Free Internet access to the official edition of the Federal Register and the Code of Federal Regulations is available on GPO Access at: http://www.gpoaccess.gov/index.html.

Eduardo M. Ochoa,
Assistant Secretary for Postsecondary Education.

[FR Doc. 2010-32262 Filed 12-22-10; 8:45 am]

BILLING CODE 4000-01-P